DEPARTMENT OF AGRICULTURE

Forest Service

Black Hills National Forest Advisory Board Public Meeting Dates Announced

AGENCY: Forest Service, USDA.

ACTION: Notice of meetings.

SUMMARY: The Black Hills National Forest Advisory Board (NFAB) has announced its meeting dates for 2012. These meetings are open to the public, and public comment is accepted at any time in writing, at the pleasure of the Chair, and during the last 15 minutes of each meeting, limited to three (3) minutes per person for oral comments.

Meeting dates are the third Wednesday of each month unless otherwise indicated:

March 21.

April 18.

May 16.

June 20.

July (No Meeting).

August 15 (Summer Field Trip—TBA).

September 19.

October 17.

November 14 (Second Wednesday).

December (No Meeting).

January 2, 2013 (First Wednesday, Tentative).

ADDRESSES: Meetings will begin at 1 p.m. and end no later than 5 p.m. at the Forest Service Center, 8221 South Highway 16, Rapid City, SD 57702.

Agendas: The Board will consider a variety of issues related to national forest management. Agendas will be announced in advance but principally concern implementing the Forest Land and Resource Management Plan. The Board will consider such topics as integrated vegetation management (wild and prescribed fire, fuels reduction, controlling insect epidemics, invasive species), travel management (off highway vehicles, the new OHV rule, and related topics), and continuing access to multiple-use management of public lands, among others.

FOR FURTHER INFORMATION CONTACT: Committee Management Officer, Black Hills National Forest, 1019 N. 5th Street, Custer, SD 57730, (605) 673-9200.

Dated: February 9, 2012.
Craig Bobzien,
Forest Supervisor.

[FR Doc. 2012-3851 Filed 2-17-12; 8:45 am]

BILLING CODE 3410-11-P